DEPARTMENT OF ENERGY

Federal Energy Regulatory Commission

[Docket Nos. RP04-565-000 and RP04-565-001]

Northwest Pipeline Corporation; Notice of Technical Conference

November 9, 2004.

In an order issued on September 30, 2004,¹ the Commission directed staff to convene a technical conference to discuss tariff filings associated with Northwest Pipeline Corporation's semi-annual recalculation of its fuel and gas loss factors.

¹ Northwest Pipeline Corporation, 108 FERC ¶ 61,325 (2004).

The technical conference will afford parties an opportunity to consider the alternative proposal included in Northwest's September 15, 2004 filing, and provide Northwest an opportunity to provide further information to support its derivation of the fuel factors and respond to all issues raised in the protests.

Take notice that a technical conference will be held on Wednesday, December 1, 2004, beginning at 10 a.m. (EST), in a room to be designated at the offices of the Federal Energy Regulatory Commission, 888 First Street, NE., Washington, DC 20426.

All interested parties and staff are permitted to attend. For further information please contact: Frank Karabetsos at (202) 502-8133 or e-mail frank.karabetsos@ferc.gov.

Linda Mitry,
Deputy Secretary.

[FR Doc. E4-3233 Filed 11-17-04; 8:45 am]

BILLING CODE 6717-01-P